DEPARTMENT OF HEALTH AND HUMAN SERVICES

Centers for Medicare & Medicaid Services

[Document Identifier: CMS-10883 and CMS-10558]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by April 26, 2024.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New collection (Request for a new OMB control number); Title of Information Collection: ADA Dental Claim Form; Use: The ADA Dental Claim form and corresponding HIPAA-compliant electronic transaction, known as the 837D, are used widely in the US dental industry to submit claims for health or dental insurance reimbursement.

Medicare has traditionally accepted the Professional (CMS-1500/837P transaction) and Institutional (UB04/837I transaction) claims to provide payment for Medicare-covered services. The Centers for Medicare & Medicaid Services (CMS) now plans to allow providers to submit Medicare-covered dental services on the dental claim form, a similar information collection as the already-approved professional and institutional claim forms.

CMS issued policy clarifications as part of its annual Medicare Physician Fee Schedule (MPFS) Rule that further define when dental services are inextricably linked to a covered medical service. Additional clarifications were included in the CY2024 MPFS final rule. CMS further established a process by which the agency will consider clinical evidence for future policy clarification consideration. CMS anticipates that these regulatory policy clarifications will result in more dental provider participation in the Medicare program. As a result, the Agency's General Counsel has advised that CMS should begin to accept dental claim formats to remain in compliance with the Health Insurance Portability and Accountability Act (HIPAA) (Pub. L. 104-191). Therefore, CMS through its Part B Medicare Administrative Contractors (MACs) will begin accepting and processing claims submitted by dental providers on the ADA Dental Claim form and HIPAA-standard electronic format equivalent (837D). Form Number: CMS-10883; Frequency: Occasionally; Affected Public: Private Sector, Business or other for-profits; Number of Respondents: 50,000; Total Annual Responses: 50,000; Total Annual Hours: 12,500. (For policy questions regarding this collection contact Charlene Parks at 410-786-8684).

2. Type of Information Collection Request: Extension of currently approved Information Collection; Title of Information Collection: Machine Readable Data for Provider Network and Prescription Formulary Content for FFM QHPs; Use: Under 45 CFR 156.122(d)(1)(2), 156.230(b), and 156.230(c), as finalized in the rule, the Patient Protection and Affordable Care Act; HHS Notice of Benefit and Payment Parameters for 2018 (CMS-9934-F), established standards for qualified health plan (QHP) issuers for the submission of provider and formulary data in a machine-readable format to the Department of Health and Human Services (HHS) and for posting the data on issuer websites. These standards provide greater transparency for consumers, including by allowing software developers to access formulary and provider data to create innovative and informative tools. On September 30, 2015, the Office of Management and Budget (OMB) granted approval to the data collection Information Collection for Machine Readable Data for Provider Network and Prescription Formulary Content for FFE QHPs under OMB control number 0938-1284. OMB approval was granted again on November 3, 2017, and March 22, 2021. The Centers for Medicare and Medicaid Services (CMS) is continuing that information collection request (ICR) in connection with these machine-readable standards. This ICR serves as a formal request for the renewal of the data collection clearance. The burden estimate for the ICR included in this package reflects the time and effort for QHP and SADP issuers to update and publish the appropriate data and submit it to CMS. No comments were received in response to the 60-day Federal Register notice. Form Number: CMS-10558 (OMB control number: 0938-1284); Frequency: Annually; Affected Public: Private Sector, State, Business, and Not-for-Profits; Number of Respondents: 434; Number of Responses: 434; Total Annual Hours: 39,126. (For questions regarding this collection, contact Ana Alza at (667) 290-8569, ext. 70008569).

William N. Parham, III,
Director, Division of Information Collections and Regulatory Impacts, Office of Strategic Operations and Regulatory Affairs.

[FR Doc. 2024-06439 Filed 3-26-24; 8:45 am]

BILLING CODE 4120-01-P